DEPARTMENT OF AGRICULTURE

Forest Service

Hood/Willamette Resource Advisory Committee (RAC)

AGENCY: Forest Service, USDA Forest Service.

ACTION: Action of meeting.

SUMMARY: Change in Location of May Meeting—The Hood/Willamette Resource Advisory Committee (RAC) will meet on Friday, May 26, 2006. The meeting is scheduled to begin at 10:30 a.m., and will conclude at approximately 4 p.m. The meeting will be held at Oregon Department of Forestry Veneta Office; 87950 Territorial Road, Veneta, Oregon; (541) 935-2283. The tentative agenda includes: (1) Election of chairperson; (2) Report on National Forest Counties and Schools Coalition Conference; (3) Tour of the Lane County Work Camp; (4) Decision on overhead rate for 2007 projects; (5) Presentation of 2007 Projects; and (6) Public Forum.

The Public Forum is tentatively scheduled to begin at 2 p.m. Time allotted for individual presentations will be limited to 3-4 minutes. Written comments are encouraged, particularly if the material cannot be presented within the time limits for the Public Forum. Written comments may be submitted prior to the May 26th meeting by sending them to Designated Federal Official Donna Short at the address given below.

FOR FURTHER INFORMATION CONTACT: For more information regarding this meeting, contact Designated Federal Official Donna Short; Sweet Home Ranger District; 3225 Highway 20; Sweet Home, Oregon 97386; (541) 367-9220.

Dated: May 1, 2006.
Dallas J. Emch,
Forest Supervisor.

[FR Doc. 06-4277 Filed 5-5-06; 8:45 am]

BILLING CODE 3410-11-M